DEPARTMENT OF HEALTH AND HUMAN SERVICES

[Document Identifier: OS-0990-0281; 30-day notice]

Agency Information Collection Request. 30-Day Public Comment Request

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov, or call the Reports Clearance Office on (202) 690-5683. Send written comments and recommendations for the proposed information collections within 30 days of this notice directly to the OS OMB Desk Officer; faxed to OMB at 202-395-6974.

Proposed Project: Prevention Communication Formative Research—Revision—OMB No. 0990-0281—Office of Disease Prevention and Health Promotion

Abstract: The information collected will be formative research to develop messages and materials, in support of development of disease prevention and health promotion information, including the Physical Activity and Dietary Guidelines for Americans. It is necessary to obtain consumer input to understand the information needs, attitudes, and beliefs of the audience in order to tailor messages, as well as to assist with clarity, understandability, and acceptance of prototyped messages, materials, and online tools. This generic clearance request describes data collection activities involving a limited set of consumer interviews, focus groups, Web concept testing, message testing, and usability testing. Frequency, reporting is on occasion. The program requests a three-year clearance.

Estimated Annualized Burden Table
Data collection task | Instrument/form name | Number of respondents | Number of responses per respondent | Average burden per response (in hours) | Total response burden
In depth interviews (Limited Literacy Consumers) | Screener | 133 | 1 | 10/60 | 22
| Interview | 33 | 1 | 1.5 | 50
| Confidentiality Agreement | 33 | 1 | 5/60 | 3
In depth Interviews (Health Intermediaries) | Screener | 75 | 1 | 10/60 | 13
| Interview | 25 | 1 | 1.5 | 38
| Confidentiality Agreement | 25 | 1 | 5/60 | 2
In depth Interviews (Public Health Professionals) | Screener | 50 | 1 | 10/60 | 8
| Interview | 25 | 1 | 1.5 | 38
| Confidentiality Agreement | 25 | 1 | 5/60 | 2
In person Focus Groups (35)—Limited Literacy Consumers | Screener | 372 | 1 | 10/60 | 62
| Focus Group | 93 | 1 | 2 | 186
| Confidentiality Agreement | 93 | 1 | 5/60 | 8
In Person Focus Groups (20)—Health Intermediaries | Screener | 159 | 1 | 10/60 | 27
| Focus Group | 53 | 1 | 2 | 106
| Confidentiality Agreement | 53 | 1 | 5/60 | 4
In person Focus Groups (15)—Public Health Professionals | Screener | 80 | 1 | 10/60 | 13
| Focus Group | 40 | 1 | 2 | 80
| Confidentiality Agreement | 40 | 1 | 5/60 | 3
Usability and other testing of prototype materials (print and Web) | Screener | 400 | 1 | 10/60 | 68
| Usability Test | 100 | 1 | 1.5 | 150
| Confidentiality Agreement | 100 | 1 | 5/60 | 8
Web-based concept and prototype testing | Screener | 0 | 1 | 0 | 0
| Web-test | 167 | 1 | 1 | 167
| Confidentiality Agreement | 167 | 1 | 5/60 | 14
In person message testing | Screener | 200 | 1 | 10/60 | 33
| Message Test | 50 | 1 | 1 | 50
| Confidentiality Agreement | 50 | 1 | 5/60 | 4
Telephone-based message testing | Screener | 268 | 1 | 10/60 | 45
| Telephone Test | 67 | 1 | 1 | 67
| Confidentiality Agreement | 67 | 1 | 5/60 | 6
Web-based message testing | Screener | 0 | 1 | 10/60 | 0
| Web-test | 115 | 1 | 1 | 115
| Confidentiality Agreement | 115 | 1 | 5/60 | 10
Total |  |  |  |  | 1,402

Mary Oliver-Anderson,
Office of the Secretary, Paperwork Reduction Act Reports Clearance Officer.

[FR Doc. E8-18346 Filed 8-7-08; 8:45 am]

BILLING CODE 4150-32-P